ENVIRONMENTAL PROTECTION AGENCY

[[EPA-HQ-ORD-2015-0467; FRL-10014-48-ORD]

Board of Scientific Counselors (BOSC) Safe and Sustainable Water Resources Subcommittee Meeting—October 2020; Correction

AGENCY: Environmental Protection Agency (EPA).

ACTION: Notice of public meeting; correction.

SUMMARY: The Environmental Protection Agency (EPA), Office of Research and Development (ORD), published a document in the Federal Register of August 24, 2020, giving notice of a meeting of the Board of Scientific Counselors (BOSC) Safe and Sustainable Water Resources (SSWR) Subcommittee.

FOR FURTHER INFORMATION CONTACT: The Designated Federal Officer (DFO) via phone/voice mail at: (202) 564-6518; via fax at: (202) 565-2911; or via email at: tracy.tom@epa.gov.

SUPPLEMENTARY INFORMATION:

Correction

In the Federal Register of August 24, 2020, in FR Doc. 2020-18516, on page 52130, column 2 correct the “Dates” caption to read:

DATES:

1. The initial meeting will be held over two days via videoconference:

a. Wednesday, October 28, 2020, from 12 p.m. to 5 p.m. (EDT); and

b. Thursday, October 29, 2020, from 12 p.m. to 5 p.m. (EDT).

Attendees must register by October 27, 2020.

2. A BOSC deliberation will be held on November 17, 2020 from 11 a.m. to 2 p.m. (EDT). Attendees must register by November 16, 2020.

3. A final summary teleconference will be held on December 2, 2020 from 2 p.m. to 5 p.m. (EDT). Attendees must register by December 1, 2020.

Meeting times are subject to change. These series of meetings are open to the public. Comments must be received by October 27, 2020, to be considered by the subcommittee. Requests for the draft agenda or making a presentation at the meeting will be accepted until October 27, 2020.

Mary Ross,
Director, Office of Science Advisor, Policy and Engagement.

[FR Doc. 2020-22574 Filed 10-9-20; 8:45 am]

BILLING CODE 6560-50-P